DEPARTMENT OF COMMERCE

International Trade Administration

Calendar of Upcoming 2018 Trade Missions

AGENCY: International Trade Administration, Department of Commerce.

ACTION: Notice.

SUMMARY: The United States Department of Commerce, International Trade Administration (ITA) is announcing four upcoming trade missions that will be recruited, organized and implemented by ITA. These missions are:

• 10th Annual U.S. Industry Program at the International Atomic Energy Agency (IAEA) General Conference Trade Mission to Vienna, Austria—September 18-19, 2017

• Smart Grid and Energy Storage Business Development Trade Mission to India—March 5-9, 2018

• Horizontal Trade Mission to the Caribbean in Conjunction with Trade Americas—Business Opportunities in the Caribbean Region Conference—May 6-11, 2018

• Oil and Gas Trade Mission to Rio de Janeiro, Brazil—September 19-21, 2018

A summary of each mission is found below. Application information and more detailed mission information, including the commercial setting and sector information, can be found at the trade mission Web site: http://export.gov/trademissions.

For each mission, recruitment will be conducted in an open and public manner, including publication in the Federal Register, posting on the Commerce Department trade mission calendar (http://export.gov/trademissions) and other Internet Web sites, press releases to general and trade media, direct mail, broadcast fax, notices by industry trade associations and other multiplier groups, and publicity at industry meetings, symposia, conferences, and trade shows.

The following Conditions for Participation will be used for each mission: Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The following Selection Criteria will be used for each mission: Targeted mission participants are U.S. firms, services providers and trade associations/organizations providing or promoting U.S. products and services that have an interest in entering or expanding their business in the mission's destination country. The following criteria will be evaluated in selecting participants:

• Suitability of the applicant's (or in the case of a trade association/organization, represented firm or service provider's) products or services to these markets;

• The applicant's (or in the case of a trade association/organization, represented firm or service provider's) past, present, and prospective business activity in relation to the Mission's target market(s) and sector(s);

• The applicant's (or in the case of a trade association/organization, represented firm or service provider's) potential for business in the markets, including likelihood of exports resulting from the mission; and

• Consistency of the applicant's (or in the case of a trade association/organization, represented firm or service provider's) goals and objectives with the stated scope of the mission.

Referrals from a political party or partisan political group or any information, including on the application, containing references to political contributions or other partisan political activities will be excluded from the application and will not be considered during the selection process. The sender will be notified of these exclusions.

Trade Mission Participation Fees: If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such visas will be the responsibility of the mission participant. Government fees and processing expenses to obtain such visas are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise: For purposes of assessing participation fees, the Department of Commerce defines Small and Medium Sized Enterprises (SME) as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Mission List: (additional information about each mission can be found at http://export.gov/trademissions).

10th Annual U.S. Industry Program at the International Atomic Energy Agency (IAEA) General Conference Trade Mission to Vienna, Austria, September 18-19, 2017

Summary

The United States Department of Commerce's (DOC) International Trade Administration (ITA), with participation from the U.S. Departments of Energy and State, is organizing the 10th Annual U.S. Industry Program at the International Atomic Energy Agency (IAEA) General Conference, to be held September 18-19, 2017, in Vienna, Austria. The IAEA General Conference is the premier global meeting of civil nuclear policymakers and typically attracts senior officials and industry representatives from all 162 Member States. The U.S. Industry Program is part of the U.S. Department of Commerce's (DOC) Civil Nuclear Trade Initiative, a U.S. Government effort to help U.S. civil nuclear companies identify and capitalize on commercial civil nuclear opportunities around the world. The purpose of the program is to help the U.S. nuclear industry promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy.

The schedule includes: Meetings with foreign delegations and discussions with senior U.S. Government officials and IAEA staff on important civil nuclear topics including regulatory, technology and standards, liability, public acceptance, export controls, financing, infrastructure development, and R&D cooperation. Past U.S. Industry Programs have included participation by the U.S. Secretary of Energy, the Chairman of the U.S. Nuclear Regulatory Commission (NRC) and senior U.S. Government officials from the Departments of Commerce, Energy, State, the U.S. Export-Import Bank and the National Security Council.

There are significant opportunities for U.S. businesses in the global civil nuclear energy market. With 60 reactors currently under construction in 15 countries and 158 nuclear plant projects planned in 27 countries over the next 8-10 years, this translates to a market demand for equipment and services totaling $500-740 billion over the next ten years. This mission contributes to DOC's Civil Nuclear Trade Initiative by assisting U.S. businesses in entering or expanding in international markets.

Schedule

****Note that specific events and meeting times have yet to be confirmed****

Monday, September 18

7:00 a.m. Industry Program breakfast begins

8:00-9:45 a.m. U.S. Policymakers Roundtable

9:45-10:00 a.m. Break

10:00-11:00 a.m. USG Dialogue with Industry

11:00 a.m.-6:00 p.m. IAEA Side Events

11:00 a.m.-12:30 p.m. Break

12:30-6:00 p.m. Country Briefings for Industry Delegation (presented by foreign delegates)

7:30-9:30 p.m. U.S. Mission to the IAEA Reception

Tuesday, September 19

9:00 a.m.-6:00 p.m. Country Briefings for Industry (presented by foreign delegates)

10:00 a.m.-6:00 p.m. IAEA Side Event Meetings

Participation Requirements

Applicants must sign and submit a completed Trade Mission application form and satisfy all of the conditions of participation in order to be eligible for consideration. Applications will be evaluated on the applicant's ability to best satisfy the participation criteria.

A minimum of 15 and maximum of 50 companies and/or trade associations and/or U.S. academic and research institutions will be selected to participate in the mission. The Department of Commerce will evaluate applications and inform applicants of selection decisions on a rolling basis until the maximum number of participants has been selected.

Fees and Expenses

After a company or organization has been selected to participate on the mission, a payment to the DOC in the form of a participation fee is required. The fee covers ITA support to register U.S. industry participants for the IAEA General Conference Participants will be able to take advantage of U.S. Embassy rates for hotel rooms.

• The fee to participate in the event is $1,600 for a large company and $1,200 for a small or medium-sized company (SME), a trade association, or a U.S. university or research institution. The fee for each additional representative (large company, trade association, university/research institution, or SME) is $900.

Participants selected for the Trade Mission will be expected to pay for the cost of all personal expenses, including, but not limited to, international travel, lodging, meals, transportation, communication, and incidentals, unless otherwise noted. In the event that the Mission is cancelled, no personal expenses paid in anticipation of a Trade Mission will be reimbursed. However, participation fees for a cancelled Trade Mission will be reimbursed to the extent they have not already been expended in the anticipation of the Mission.

Timeline for Recruitment

Recruitment for participation in the U.S. Industry Program as a representative of the U.S. nuclear industry will be conducted in an open and public manner, including publication in the Federal Register, posting on the DOC trade mission calendar, notices to industry trade associations and other multiplier groups. Recruitment will begin 2 weeks after publication in the Federal Register and conclude no later than June 30, 2017. The ITA will review applications and make selection decisions on a rolling basis. Applications received after June 30, 2017, will be considered only if space and scheduling permit.

Contacts

Jonathan Chesebro, Industry & Analysis, Office of Energy and Environmental Industries, Washington, DC, Tel: (202) 482-1297, Email: jonathan.chesebro@trade.gov.

Devin Horne, Industry & Analysis, Office of Energy and Environmental Industries, Washington, DC, Tel: (202) 482-0775, Email: devin.horne@trade.gov.

Smart Grid and Energy Storage Business Development Mission to India, March 5-9, 2018

Summary

The United States Department of Commerce, International Trade Administration (ITA), is organizing an executive-led Smart Grid and Energy Storage Business Development Mission to India.

At a time when India strives to bring modernization, stability, and efficiency to its expanding power grid, U.S. companies can offer expertise, technology and solutions to meet the demand for innovative power transmission and distribution equipment, smart grid technology, and energy storage products and services. Mission participants will have the opportunity to discuss with key Indian decision makers how to foster policies, regulations, and financial investment that support the development of a sustainable and profitable grid. Participants will network with Indian Government officials, be introduced to prospective business partners, and facilitate discussions on best practices in their areas of technical expertise.

Mission participants will visit New Delhi, Hyderabad, and Mumbai to gain market insights, make industry contacts, solidify business strategies, and advance specific projects, with the goal of increasing U.S. exports of products and services to India. The mission will include customized one-on-one business appointments, meetings with state and local government officials, and networking events. In New Delhi, mission participants will have special access to the India Smart Grid Week conference, which will entail matchmaking and networking with utilities and officials visiting New Delhi from other states/regions.

Proposed Timetable

* Note: The final schedule and potential site visits will depend on the availability of host government and business officials, specific goals of mission participants, and ground transportation.

Sunday, March 4 | • Trade Mission Participants Arrive to New Delhi.
Monday, March 5 | • Welcome Breakfast Briefing. • U.S. Embassy Briefing with Energy Agencies. • Site Visit to Tata Power Delhi Distribution Ltd/Energy Storage Facility. • Networking Lunch with Industry Chamber Membership. • B2G Ministry Meetings/National Power Generation Co/National Grid Co. • G2G Ministry Meetings in New Delhi. • Networking Reception at Ambassador's Residence.
Tuesday, March 6 | • India Smart Grid Week Inauguration/Keynote by USG Executive Lead. • Networking Lunch. • One-on-One Business Matchmaking Appointments. • India Smart Grid Week Conference.
Wednesday, March 7 | • India Smart Grid Week Conference. • U.S.-India Smart Grid Workshop (Finance, Standards, etc). • Invitational Lunch with Regional Utilities. • One-on-One Business Matchmaking Appointments. • Travel to Hyderabad.
Thursday, March 8 | • Breakfast Briefing with U.S. Consul General Hyderabad. • Group Meeting with State of Telangana, Energy Officials. • Site Visit to Telangana Distribution Company. • Networking Lunch with Industry Chamber/Regional Utilities. • One-on-One Business Matchmaking Appointments. • Travel to Mumbai.
Friday, March 9 | • Briefing with U.S. Consul General Mumbai. • Energy Finance Roundtable with Financial Institutions. • Meeting with State of Maharastra, Energy Officials. • Networking Lunch with Industry Chamber. • One-on-One Business Matchmaking Appointments. • Closing Remarks/Networking Cocktail. • Trade Mission Participants Depart.

Participation Requirements

Applicants must sign and submit a completed Trade Mission application form and satisfy all of the conditions of participation in order to be eligible for consideration. A minimum of 10 and maximum of 15 firms and/or trade associations will be selected to participate in the mission.

Fees and Expenses

After a firm or trade association has been selected to participate on the mission, a payment to the U.S. Department of Commerce in the form of a participation fee is required. The participation fee for this Business Development Mission will be $5,800 for small or medium-sized enterprises (SME) ¹; and $6,300 for large firms or trade associations. The fee for each additional firm representative (large firm, SME or trade association) is $500.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Participants selected for the Trade Mission will be expected to pay for the cost of all personal expenses, but not limited to, international travel, lodging, meals, transportation, communication, and incidentals, unless otherwise noted. In the event that the Mission is cancelled, no personal expenses paid in anticipation of the Trade Mission will be reimbursed. However, participation fees for a cancelled Trade Mission will be reimbursed to the extent they have not already been expended in anticipation of the Mission. Delegation members will be able to take advantage of U.S. Embassy rates for hotel room package, which typically includes breakfast and airport-hotel transfers. Local ground transportation within New Delhi, Hyderabad, and Mumbai for meetings and events will be provided for the group.

Participation in the India Smart Grid Week 2018 conference and networking lunches are included in the Trade Mission fee. Companies interested in opportunities for sponsoring, speaking, or exhibiting at India Smart Grid Week 2018 may contact the show organizers directly.

Participants must obtain a visa to enter India. Government fees and processing expenses to obtain visas are not included in the mission costs. The U.S. Department of Commerce will provide instructions to each participant on the procedures to obtain the required visas.

Trade mission members participate in this Business Development Mission and undertake mission-related travel at their own risk. The nature of a security situation in a given foreign market at a given time cannot be guaranteed. The U.S. Government does not make any representations or guarantees as to the safety or security of participants. The U.S. Department of State issues U.S. Government international travel alerts and warnings for U.S. citizens, available at https://travel.state.gov/content/passports/en/alertswarnings.html. Any question regarding insurance coverage must be resolved by the participant and his/her insurers of choice.

Mission recruitment will be conducted in an open and public manner, including publication in the Federal Register, posting on the U.S. Department of Commerce trade mission calendar (http://export.gov/trademissions) and other Internet Web sites, press releases to general and trade media, direct mail, notices by industry trade associations and other multiplier groups, and publicity at industry meetings, symposia, conferences, and trade shows. Recruitment for the mission will begin immediately and conclude no later than December 12, 2017.

The Department of Commerce will evaluate applications and inform applicants of selection decisions three times during the recruitment period. All applications received subsequent to an evaluation date will be considered at the next evaluation. Deadlines for each round of evaluation are as follows:

• First round: July 28

• Second round: September 28

• Final round: December 12

Applications received after December 12, 2017, will be considered only if space and scheduling constraints permit.

Contacts

Dinah McDougall, Commercial Officer, U.S. Embassy New Delhi, U.S. Department of Commerce, Tel: +91-11-2347-2192, Fax: +91-11-2331-5172, Email: dinah.mcdougall@trade.gov.

Victoria Gunderson, International Trade Specialist, Office of Energy and Environmental Industries, International Trade Administration, U.S. Department of Commerce, victoria.gunderson@trade.gov, Office: +1-202-482-7890, Mobile: +1-202-839-0000.

David Nufrio, International Trade Specialist, Office of South Asia, U.S. Department of Commerce, Phone: 202-482-5175, Email: david.nufrio@trade.gov.

Shannon Fraser, Global Energy Team, U.S. Commercial Service—San Jose/Silicon Valley, U.S. Department of Commerce, Email: shannon.fraser@trade.gov, Cell: 408-335-8979.

Mark Wells, Project Officer, U.S. Department of Commerce, Washington, DC, Tel: 202-482-0904, Email: mark.wells@trade.gov.

Horizontal Trade Mission to the Caribbean Region in Conjunction With the Trade Americas—Business Opportunities in the Caribbean Region Conference—May 6-11, 2018

Summary

The United States Department of Commerce, International Trade Administration, is organizing a trade mission to the Caribbean region, in conjunction with the Department of Commerce's Trade Americas—Business Opportunities in the Caribbean Region Conference in Miami, Florida. Trade mission participants will arrive in Miami on May 6, and will attend the Trade Americas—Business Opportunities in the Caribbean Region Conference on May 6th and 7th. On May 7th, following the morning session of the conference, trade mission participants will participate in one-on-one consultations with U.S. and Foreign Commercial Service (US&FCS) Commercial Officers and/or Economic/Commercial Officers from the following U.S. Embassies in the Caribbean region: The Bahamas, Barbados, Dominican Republic, Haiti, Jamaica, and Trinidad and Tobago. The following day, May 8, trade mission participants will travel to engage in business-to-business appointments, each of which will be with a pre-screened potential buyer, agent, distributor or joint-venture partner, in up-to two markets in the Caribbean Region.

The Department of Commerce's Trade Americas—Business Opportunities in the Caribbean Region Conference will focus on regional specific sessions, market access, logistics and trade financing resources as well as pre-arranged one-one-one consultations with US&FCS Commercial Officers and/or Department of State Economic/Commercial Officers with expertise in commercial markets throughout the region.

The mission is open to U.S. companies from a cross section of industries with growing potential in the Caribbean region, but is focused on U.S. companies in best prospects sectors such as Automotive Parts and Services, Construction Equipment/Road Building Machinery/Building Products/Infrastructure projects, Medical Equipment and Devices/Pharmaceuticals, ICT, Energy Equipment and Services, Safety and Security Equipment, Hotel and Restaurant Equipment, Franchise, Manufacturing Equipment, Yachting industry/Maritime services/Sailing Equipment.

The combination of participation in the Trade Americas—Business Opportunities in the Caribbean Region Conference and business-to-business matchmaking appointments in six Caribbean countries, will provide participants with access to substantive information about and strategies for entering or expanding their business across the Caribbean region.

Schedule

May 6, 2018 | Travel Day/Arrival in Miami, FL.
May 7, 2018 | Miami, FL. Morning: Registration and Trade Americas—Business Opportunities in the Caribbean Region Conference. Afternoon: U.S. Embassy Officer Consultations. Evening: Networking Reception.

Optional

May 8-11, 2018 | Travel and Business-to-Business Meetings in (choice of two markets): Option (A) Dominican Republic. Option (B) Bahamas. Option (C) Barbados. Option (D) Haiti. Option (E) Jamaica. Option (F) Trinidad and Tobago.
May 12, 2018 | Travel Day.

Participation Requirements

All applicants must sign and submit a completed Trade Mission application form and satisfy all of the conditions of participation in order to be eligible for consideration. Applications will be evaluated on the applicant's ability to best satisfy the participation criteria.

A minimum of 20 and a maximum of 30 companies will be selected to participate in the mission. The Department of Commerce will evaluate applications and inform applicants of selection decisions on a rolling basis until the maximum number of participants has been selected. During the registration process, applicants will indicate their markets of choice and will receive a brief market assessment for each of those markets. Applicants can select up-to two markets based on the selection criteria below. Companies that received favorable market opportunities in various markets may be able to participate in business-to-business meetings in a third market, if that post can accommodate those meetings. The number of companies that may be selected for each country are as follows: 20 companies for Dominican Republic, 3 companies for the Bahamas; 3 companies for Barbados; 4 companies for Haiti; 3 companies for Jamaica; and 3 companies for Trinidad and Tobago. U.S. companies already doing business in, or seeking to enter these markets for the first time may apply.

Fees and Expenses

After a company has been selected to participate on the mission, a payment to the Department of Commerce in the form of a participation fee is required.

For business-to-business meetings in one market, the participation fee will be $2,100 for a small or medium-sized enterprise (SME) * and $3,100 for large firms *.

For business-to-business meetings in two markets, the participation fee will be $2,800 for a small or medium-sized enterprise (SME) ² * and $3,800 for large firms *.

² An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

The mission registration fee includes the Trade Americas—Business Opportunities in the Caribbean Region Conference registration fee of $400 per participant from each firm.

There will be a $200 fee for each additional firm representative (large firm or SME) that wishes to participate in business-to-business meetings in any of the markets selected.

Participants selected for the Trade Mission will be expected to pay for the cost of all personal expenses, including, but not limited to, international travel, lodging, meals, transportation, communication, and incidentals, unless otherwise noted. In the event that the Mission is cancelled, no personal expenses paid in anticipation of a Trade Mission will be reimbursed. However, participation fees for a cancelled Trade Mission will be reimbursed to the extent they have not already been expended in the anticipation of the Mission.

Timeframe for Recruitment and Application

Mission recruitment will be conducted in an open and public manner, including publication in the Federal Register, posting on the Commerce Department trade mission calendar on www.export.gov, the Trade Americas Web page at http://export.gov/tradeamericas/index.asp, and other Internet Web sites, press releases to the general and trade media, direct mail and broadcast fax, notices by industry trade associations and other multiplier groups and announcements at industry meetings, symposia, conferences, and trade shows.

Recruitment for the mission will begin immediately and conclude no later than Friday, March 16, 2018. The U.S. Department of Commerce will review applications and make selection decisions on a rolling basis until the maximum of 30 participants are selected. After March 16, 2018, companies will be considered only if space and scheduling constraints permit.

Contacts

U.S. Trade Americas Team Contact Information

Diego Gattesco, Director, U.S. Commercial Service—Wheeling, WV, Diego.Gattesco@trade.gov, Tel: 304-243-5493.

Delia Valdivia, Senior International Trade Specialist, U.S. Commercial Service—Los Angeles (West), CA, Delia.Valdivia@trade.gov, Tel: 310-235-7203.

Caribbean Region Contact Information

David McNeill, Senior Commercial Officer, U.S. Commercial Service—U.S. Embassy, Santo Domingo, Dominican Republic, David.McNeill@trade.gov.

Maria Elena Portorreal, Regional Commercial Specialist, U.S. Commercial Service—U.S. Embassy, Santo Domingo, Dominican Republic, Maria.Portorreal@trade.gov.

Oil and Gas Trade Mission to Rio De Janiero, Brazil—September 19-21, 2018

Summary

The United States Department of Commerce International Trade Administration's (ITA) is organizing an Oil and Gas Trade Mission to Rio de Janeiro, Brazil, September 19-21, 2018.

The Trade Mission offers a timely and cost-effective means for U.S. firms to engage with key stakeholders and to enter the promising Brazilian oil and gas market for oil and gas equipment, technology, and services. The delegation will be comprised of at least 10 U.S. firms and a maximum of 15 U.S. firms representing a cross-section of U.S. oil and gas segments that have developed products and services for subsea (deep water) and onshore, oil and gas exploration and production U.S. oil and gas operators and representatives of U.S. oil and gas trade associations may also apply to be part of the 10-15 total participants.

Schedule

Tuesday, Sep 18, 2018 | • Delegation arrives in Rio. • Welcome lunch at hotel restaurant. • Afternoon free.
Wednesday, Sep 19, 2018 | • Country Team Briefing at U.S. Consulate General Rio de Janeiro by Brazil Mission team. Topics: Brazil's economy, commercial environment, investment climate, IP issues, etc. • Commercial & Legal Briefing by key industry players and a Law Office. Topics: Oil and Gas Opportunities in Brazil/Understanding Petrobras Tenders. • Lunch with the Brazilian Speakers of the Commercial/Legal Briefing. • One group meeting with Petrobras (U.S. companies to make presentations to Petrobras). • Welcome cocktail Reception.
Thursday, Sep 20, 2018 | • U.S. companies individual business-to-business appointments at the Brazilian company's offices.
Friday, Sep 21, 2018 | • Site visit to a U.S. OEM (e.g.: Oceaneering or GE Wellstream—TBD). • Mission participants lunch. • One group meeting with another oil company (e.g.: Shell—TBD). • Evening Departure (**).
(**) As an option, trade mission participants may stay over the weekend and attend at least one day of the Rio Oil and Gas Trade Show that will take place from September 24-27, 2018. There is no additional costs to the participation fee for the optional trade show participation. There is free transportation offered by the show organizers to and from the conference grounds. All additional costs that TM participants will have do not apply to the TM participation fee.

Participation Requirements

Recruitment for the mission will begin immediately and conclude no later than July 30, 2018. All parties interested in participating in the trade mission must complete and submit an application package for consideration by the Department of Commerce. All applications must be submitted before July 30, 2018. The Department of Commerce will evaluate all applications and inform applicants of selection decisions as soon as possible after this application deadline.

Applications received after July 30, 2018, will be considered only if space and scheduling constraints permit.

Fees and Expenses

After a company or organization has been selected to participate in the mission, a payment to the Department of Commerce in the form of a participation fee is required. The participation fee for the Trade Mission will be $2,010 for a small or medium-sized firm (SME), and $2,320 for large firms. The fee for each additional firm representative (large firm or SME/trade organization) is USD $750.00.

Participants selected for the Trade Mission will be expected to pay for the cost of all personal expenses, including, but not limited to, international travel, lodging, meals, transportation, communication, and incidentals, unless otherwise noted. In the event that the Mission is cancelled, no personal expenses paid in anticipation of a Trade Mission will be reimbursed. However, participation fees for a cancelled Trade Mission will be reimbursed to the extent they have not already been expended in the anticipation of the Mission.

Participants will be able to take advantage of U.S. Government rates for hotel rooms. Business or entry visas may be required to participate in the mission. Applying for and obtaining such visas will be the responsibility of the mission participant. Government fees and processing expenses to obtain such visas are not included in the participation fee. However, the Department of Commerce will provide instructions to each participant on the procedures required to obtain necessary business visas.

Timeframe for Recruitment and Application

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows.

Recruitment for the mission will begin immediately and conclude no later than July 30, 2018. Applications received after July 30, 2018, will be considered only if space and scheduling constraints permit.

Contacts

Regina Cunha, Senior Commercial Specialist, U.S. Department of Commerce, Address: U.S. Consulate General. Avenida Presidente Wilson 147. Centro, Rio de Janeiro. Brazil. Tel.: # +55 21 38232416, Email: regina.cunha@trade.gov.

Rodrigo Correa, Commercial Assistant, U.S. Department of Commerce, Address: U.S. Consulate General. Avenida Presidente Wilson 147. Centro, Rio de Janeiro. Brazil. Tel.: # +55 21 38232406, Email: rodrigo.correa@trade.gov.

Stefan Popescu, Commercial Specialist, CS Toronto, Tel: 1 416-595-5412 x223, Stefan.Popescu@trade.gov.

Connie Irrera, Commercial Specialist, CS Montreal, Tel: 1 514-908-3662, Connie.Irrera@trade.gov.

Julius Svoboda, Senior Oil & Gas Trade Specialist, U.S. Department of Commerce, Address: 1401 Constitution Ave., Tel.: +1-202-482-5430, Email: Julius.Svoboda@trade.gov.

Frank Spector,
Senior Advisor for Trade Missions.

[FR Doc. 2017-16082 Filed 7-31-17; 8:45 am]

BILLING CODE 3510-DR-P